DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-1243.

Project: Strategic Prevention Framework for Prescription Drugs (SPF-Rx)—New

The Substance Abuse and Mental Health Services Administration (SAMHSA)'s Center for Substance Abuse Prevention (CSAP) aims to conduct a cross-site evaluation of the Strategic Prevention Framework for Prescription Drug (SPF-Rx) program. The SPF-Rx program is designed to address nonmedical use of prescription drugs (as well as) opioid overdoses by raising awareness about the dangers of sharing medications and by working with pharmaceutical and medical communities. The SPF-Rx program aims to promote collaboration between states/tribes and pharmaceutical and medical communities to understand the risks of overprescribing to youth age 12-17 and adults 18 years of age and older. The program also aims to enhance capacity for, and access to, Prescription Drug Monitoring Program (PDMP) data for prevention purposes.

The SPF-Rx program aims to address SAMHSA's priorities on prevention and reduction of prescription drug and illicit opioid misuse and abuse. Its indicators of success are reductions in opioid overdoses and the incorporation of PDMP data into needs assessments and strategic plans. Data collected through the tools described in this statement will be used for the national cross-site evaluation of SAMHSA's SPF-Rx program. This package covers continued data collection through 2020, as the evaluation is expected to continue through at least that time; however, the Program Evaluation for Prevention Contract (PEP-C) is scheduled to conduct a national cross-site evaluation of SPF-Rx through September 2018. The PEP-C team will systematically collect and maintain an Annual Implementation Instrument (AII) and outcomes data submitted by SPF-Rx grantees through the online PEP-C Management Reporting Tool (MRT).

SAMHSA is requesting approval for data collection for the SPF-Rx cross-site evaluation with the following four instruments:

• Grantee Interview to obtain the perspective of the implementing Project Directors (PDs) or their staff on important topics, including infrastructure and capacity, collaboration, leveraging funding and resources, criteria and use of evidence-informed interventions, monitoring and evaluation, collaboration, challenges, and health disparities. Information from these interviews will help inform SPF-Rx cross-site evaluation reports and will help identify lessons learned and success stories from grantees' SPF-Rx programs.

• Grantee- and Community-Level Outcomes Modules to collect data on key SPF-Rx program outcomes, including opioid misuse and abuse, opioid overdoses, and opioid prescribing patterns. Grantees will provide outcomes data at the grantee level for their state, tribal area, or jurisdiction, as well as at the community level for each of their subrecipient communities.

• Substitute Data Source Request to allow grantees to request permission from SAMHSA to use “substitute measures” for their outcomes data—that is, measures that differ from a list of preapproved outcomes measures.

• Annual Implementation Instrument to collect data completed by grantees and subrecipient community PDs. Data collected from the survey will be used to monitor subrecipient and state, tribal entity, or jurisdiction performance and to evaluate the effectiveness of the SPF-Rx program across states, tribal entities, and jurisdictions.

• Grantee Interview to collect semistructured telephone interview data to gather more in-depth information on organizational infrastructure, use of PDMP data, collaboration, leveraging of funds and resources, and evaluation activities

• Evaluation Plan to allow grantees to outline their local evaluation plan. Sections include goals and objectives, performance measures, data analysis plan, and reporting plan.

Annualized Data Collection Burden
Instrument | Number of respondents | Responses per respondent | Total number of responses | Hours per response | Total burden hours
Grantee-Level Outcomes Module | 25 | 1 | 25 | 3 | 75
Community-Level Outcomes Module | 25 | 1 | 25 | 3 | 75
Substitute Data Request Form | 12 | 1 | 12 | 1 | 12
Annual Implementation Instrument | 100 | 1 | 100 | 2.3 | 230
Grantee-Level Interview | 17 | 1 | 17 | 1.5 | 25.5
Evaluation Plan | 25 | 1 | 25 | 8 | 200
Overall Total | 100 |  | 204 |  | 618
Note. Annualized Data Collection Burden captures the average number of respondents and responses, burden hours, and respondent cost over the 3 years (FY2018-FY2020).

Written comments and recommendations concerning the proposed information collection should be sent by July 20, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-12851 Filed 6-19-17; 8:45 am]

BILLING CODE 4162-20-P